DEPARTMENT OF TRANSPORTATION

Federal Railroad Administration

[Docket No. FRA 2016-0002-N-16]

Proposed Agency Information Collection Activity; Comment Request

AGENCY: Federal Railroad Administration (FRA), U.S. Department of Transportation.

ACTION: Notice and request for comments.

SUMMARY: Under the Paperwork Reduction Act of 1995 (PRA) and its implementing regulations, FRA is informing the public it has revised the Annual Positive Train Control (PTC) Progress Report Form (Form FRA F 6180.166), which the Office of Management and Budget (OMB) previously approved on March 16, 2016, for a period of 180 days, under its emergency processing procedures. FRA revised the Annual PTC Progress Report Form based on comments it received from industry stakeholders on a related information collection, the Quarterly PTC Progress Report Form (Form FRA F 6180.165). Before submitting this annual information collection request to OMB for regular clearance, FRA is soliciting public comment on specific aspects of the proposed information collection identified below.

DATES: Comments must be received no later than August 22, 2016.

ADDRESSES: Submit written comments on the following proposed activity by mail to either: Mr. Robert Brogan, Office of Safety, Planning and Evaluation Division, RRS-21, Federal Railroad Administration, 1200 New Jersey Ave. SE., Mail Stop 17, Washington, DC 20590, or Ms. Kimberly Toone, Office of Information Technology, RAD-20, Federal Railroad Administration, 1200 New Jersey Ave. SE., Mail Stop 35, Washington, DC 20590. Commenters requesting FRA to acknowledge receipt of their respective comments must include a self-addressed stamped postcard stating, “Comments on OMB control number 2130-0553.” Alternatively, comments may be transmitted via facsimile to (202) 493-6216 or (202) 493-6497, or via email to Mr. Brogan at Robert.Brogan@dot.gov, or to Ms. Toone at Kim.Toone@dot.gov. When submitting comments to FRA in response to this notice, please refer to the assigned OMB control number 2130-0553 and to Docket Number FRA-2016-0002-0016. FRA will summarize comments received in response to this notice in a subsequent notice and include the comments in its information collection submission to OMB for approval.

FOR FURTHER INFORMATION CONTACT: Mr. Robert Brogan, Office of Planning and Evaluation Division, RRS-21, Federal Railroad Administration, 1200 New Jersey Ave. SE., Mail Stop 17, Washington, DC 20590 (telephone: (202) 493-6292) or Ms. Kimberly Toone, Office of Information Technology, RAD-20, Federal Railroad Administration, 1200 New Jersey Ave. SE., Mail Stop 35, Washington, DC 20590 (telephone: (202) 493-6132). (These telephone numbers are not toll-free.)

SUPPLEMENTARY INFORMATION:

I. Public Comment Under the PRA

The PRA and its implementing regulations require Federal agencies to provide 60-days' notice to the public for comment on information collection activities before seeking approval for reinstatement or renewal by OMB. See 44 U.S.C. 3506(c)(2)(A) (1995); 5 CFR 1320.8(d)(1), 1320.10(e)(1), 1320.12(a). Specifically, FRA invites interested respondents to comment on: (i) Whether the information collection activity is necessary for FRA to properly execute its functions, including whether the activity will have practical utility; (ii) the accuracy of FRA's estimates of the burden of the information collection activity, including the validity of the methodology and assumptions used to determine the estimates; (iii) ways for FRA to enhance the quality, utility, and clarity of the information being collected; and (iv) ways for FRA to minimize the burden of the information collection activity on the public by automated, electronic, mechanical, or other technological collection techniques or other forms of information technology (e.g., permitting electronic submission of responses). See 44 U.S.C. 3506(c)(2)(A)(i)-(iv); 5 CFR 1320.8(d)(1)(i)-(iv). FRA believes soliciting public comment will promote its efforts to reduce the administrative and paperwork burdens associated with the collection of information. In summary, FRA reasons that comments received will advance three objectives: (i) Reduce reporting burdens; (ii) ensure that it organizes information collection requirements in a “user friendly” format to improve the use of such information; and (iii) accurately assess the resources expended to retrieve and produce information requested. See 44 U.S.C. 3501.

II. Background on the Annual PTC Reporting Requirement

Under the Positive Train Control Enforcement and Implementation Act of 2015 (PTCEI Act), each railroad subject to 49 U.S.C. 20157(a) must submit an annual progress report to FRA by March 31, 2016, and annually thereafter, until PTC implementation is completed. 49 U.S.C. 20157(c)(1). The PTCEI Act specifically requires each railroad to provide certain information in the annual reports regarding its progress toward implementing a PTC system, and authorizes FRA to request that railroads provide additional information in the annual progress reports. See id. In addition, 49 U.S.C. 20157(c)(2) requires FRA to conduct compliance reviews at least annually to ensure each railroad is complying with its revised PTC implementation plan (PTCIP). The PTCEI Act requires railroads to provide information to FRA that FRA determines is necessary to adequately conduct such compliance reviews. See 49 U.S.C. 20157(c)(2).

On March 16, 2016, OMB approved the Annual PTC Progress Report Form (Form FRA F 6180.166). However, based on industry's oral and written comments on the proposed Quarterly PTC Progress Report Form (Form FRA F 6180.165), FRA has revised the Annual PTC Progress Report Form to be as consistent with the quarterly report form as possible (where the questions overlap), thereby enabling railroads to transfer information from the quarterly report forms to the annual report forms more easily. In summary, on April 12, 2016, the Association of American Railroads (AAR) submitted comments to FRA on behalf of itself and its member railroads, and the American Public Transit Association (APTA) submitted comments to FRA on behalf of Metra, the Utah Transit Authority, the Tri-County Metropolitan Transportation District of Oregon, and the Fort Worth Transportation Authority.

On April 19, 2016, FRA held a meeting on the proposed Quarterly PTC Progress Report Form to offer the affected regulated entities a forum to provide additional comments and feedback to FRA. Representatives from, and members of, AAR, APTA, the American Short Line and Regional Railroad Association (ASLRRA), and some individual railroad representatives attended the meeting and provided feedback. FRA published minutes from the meeting on www.regulations.gov under Docket No. FRA-2016-0002. For a detailed summary of the oral and written comments and FRA's responses to the comments, please see 81 FR 28140 (May 9, 2016).

The current Annual PTC Progress Report Form, as approved through September 30, 2016, can be accessed and downloaded in FRA's eLibrary at: https://www.fra.dot.gov/eLib/details/L17366. To view the revised Annual PTC Progress Report Form that FRA hereby offers for public comment, please see the form attached to this Federal Register notice.

III. Overview of Information Collection

The associated collection of information is summarized below. FRA will submit this information collection request to OMB for regular clearance as required by the PRA.

Title: Annual Positive Train Control Progress Report.

OMB Control Number: 2130-0553.

Form Number(s): FRA F 6180.166.

Affected Public: Businesses.

Frequency of Submission: One-time; on occasion.

Respondent Universe: 41 Railroad Carriers.

Reporting Burden:

Annual PTC progress report | Respondent universe | Total annual responses | Average time per response (hours) | Total annual burden hours
Form FRA F 6180.166 | 41 Railroads | 41 Reports/Forms | 38.41 | 1,575

FRA notes that the 38.41-hour estimate is an average for all railroads. FRA estimated the annual reporting burden is 60 hours for Class I and large passenger railroads, 40 hours for Class II and medium passenger railroads, and 25 hours for Class III, terminal and small passenger railroads.

Total Estimated Annual Responses for Form FRA F 6180.166: 41.

Total Estimated Annual Burden for Form FRA F 6180.166: 1,575 hours.

Total Estimated Annual Responses for Entire Information Collection: 147,612.

Total Estimated Annual Burden for Entire Information Collection: 3,122,559.

Status: Regular Review.

Under 44 U.S.C. 3507(a) and 5 CFR 1320.5(b) and 1320.8(b)(3)(vi), FRA informs all interested parties that it may not conduct or sponsor, and a respondent is not required to respond to, a collection of information unless it displays a currently valid OMB control number.

Authority: 44 U.S.C. 3501-3520.

Issued in Washington, DC, on June 20, 2016.
Corey Hill,
Executive Director.

BILLING CODE 4910-06-P

[FR Doc. 2016-14890 Filed 6-22-16; 8:45 am]

BILLING CODE 4910-06-C